DEPARTMENT OF COMMERCE

International Trade Administration

(A-821-801)

Solid Urea from the Russian Federation: Final Results of Antidumping Duty New-Shipper Review and Rescission of Antidumping Duty Administrative Review

AGENCY: Import Administration, International Trade Administration, Department of Commerce.

SUMMARY: On December 26, 2007, the Department of Commerce (the Department) published the preliminary results of a new-shipper review of the antidumping duty order on solid urea from the Russian Federation. The solid urea subject to this review was produced and exported by MCC EuroChem (EuroChem). The period of review (POR) is July 1, 2006, through December 31, 2006. Based on our analysis of comments received, we have not made any changes to our calculation of EuroChem's antidumping-duty margin. Therefore, our final results are identical to our published preliminary results. The final results are listed below in the section entitled “Final Results of the New-Shipper Review”. Furthermore, we are rescinding the concurrent administrative review of the antidumping duty order because it covers the same entry that we reviewed in the context of the new-shipper review.

EFFECTIVE DATE: May 22, 2008.

FOR FURTHER INFORMATION CONTACT: Thomas Schauer or Minoo Hatten, AD/CVD Operations, Office 5, Import Administration, International Trade Administration, U.S. Department of Commerce, 14th Street and Constitution Avenue, NW, Washington, DC 20230; telephone: (202) 482-0410 and (202) 482-1690, respectively.

SUPPLEMENTARY INFORMATION:

Background

On December 26, 2007, the Department published the preliminary results of the new-shipper review of the antidumping duty order on solid urea from the Russian Federation. See Solid Urea From the Russian Federation: Preliminary Results and Extension of Time Limit for Final Results of the Antidumping Duty New-Shipper Review, 72 FR 72988 (December 26, 2007) (Preliminary Results). On February 27, 2008, we issued a post-preliminary analysis decision memorandum and margin recalculations concerning our sales-below-cost investigation of EuroChem.

On March 21, 2008, the Ad Hoc Committee of Domestic Nitrogen producers (the petitioner) withdrew its sales-below-cost allegation and requested that the Department terminate the cost investigation. On March 24, 2008, EuroChem submitted a letter arguing that the Department should not terminate the cost investigation. After considering all comments, on March 27, 2008, we terminated the cost investigation. See Memorandum from Minoo Hatten to Laurie Parkhill dated March 27, 2008.

On March 28, 2008, we received a case brief from the petitioner. On April 4, 2008, we received a rebuttal brief from EuroChem. Although the petitioner and EuroChem had requested a hearing, both parties withdrew their requests for a hearing on April 15, 2008.

Scope of the Order

The merchandise under review is solid urea, a high-nitrogen content fertilizer which is produced by reacting ammonia with carbon dioxide. The product is currently classified under the Harmonized Tariff Schedules of the United States (HTSUS) item number 3102.10.00.00. Previously such merchandise was classified under item number 480.3000 of the Tariff Schedules of the United States. Although the HTSUS subheading is provided for convenience and customs purposes, the written description of the merchandise is dispositive.

Analysis of Comments Received

All issues raised in the case and rebuttal briefs by parties to this new-shipper review are addressed in the “Issues and Decision Memorandum” (Decision Memorandum) from Stephen J. Claeys, Deputy Assistant Secretary for Import Administration, to David M. Spooner, Assistant Secretary for Import Administration, dated May 15, 2008, which is hereby adopted by this notice. A list of the issues which the parties have raised and to which we have responded is attached to this notice as an appendix. Parties can find a complete discussion of all issues raised and corresponding recommendations in this public memorandum, which is on file in Import Administration's Central Records Unit, Room 1117 of the main Department building. In addition, a complete version of the Decision Memorandum is available on the Internet at http://ia.ita.doc.gov/frn/index.html. The paper copy and electronic version of the Decision Memorandum are identical in content.

Changes Since the Post-Preliminary Results

Because we terminated the cost investigation, the only change we have made has been to revert to the margin calculations we used for the published preliminary results in which we did not perform the cost test. See Preliminary Results, 72 FR at 72991, and the preliminary results analysis memorandum for EuroChem dated December 17, 2007, for our calculation of EuroChem's margin.

Final Results of the New-Shipper Review

We determine that the weighted-average margin on solid urea from the Russian Federation produced and exported by EuroChem for the period July 1, 2006, through December 31, 2006, is zero percent.

Rescission of Administrative Review

On August 20, 2007, we initiated an administrative review of the antidumping duty order on solid urea from Russia for the period July 1, 2006, through June 30, 2007. See Initiation of Antidumping and Countervailing Duty Administrative Reviews and Request for Revocation in Part, 72 FR 48613 (August 20, 2007).

Because we have analyzed the entry covered by the administrative review in the context of this concurrent new-shipper review, we are rescinding the administrative review.

Assessment Rates

The Department shall determine, and U.S. Customs and Border Protection (CBP) shall assess, antidumping duties on all appropriate entries in accordance with 19 CFR 351.212. The Department will issue assessment instructions for EuroChem directly to CBP 15 days after the date of publication of these final results.

Because we found no margin for the U.S. sale subject to this new-shipper review, we will instruct CBP to liquidate the appropriate entry without regard to antidumping duties.

Cash-Deposit Requirements

The following cash-deposit requirements will be effective for all shipments of the subject merchandise entered, or withdrawn from warehouse, for consumption on or after the publication date of the final results of the new-shipper review, as provided by section 751(a)(2)(C) of the Act: 1) the cash-deposit rate for subject merchandise both manufactured and exported by EuroChem will be zero; 2) for previously reviewed or investigated companies not listed above, the cash-deposit rate will continue to be the company-specific rate published for the most recent period; 3) if the exporter is not a firm covered in this review or the original less-than-fair-value (LTFV) investigation but the manufacturer is, the cash-deposit rate will be the rate established for the most recent period for the manufacturer of the merchandise; and 4) the cash-deposit rate for all other manufacturers or exporters will continue to be 64.93 percent, the all-others rate established in the LTFV investigation. See Urea From the Union of Soviet Socialist Republics; Final Determination of Sales at Less Than Fair Value, 52 FR 19557 (May 26, 1987). These cash-deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to an administrative protective order of their responsibility concerning the disposition of proprietary information disclosed under such an order in accordance with 19 CFR 351.305(a)(3). Timely notification of the return or destruction of administrative-protective-order materials or conversion to judicial protective order is hereby requested. Failure to comply with the regulations and the terms of an administrative protective order is a sanctionable violation.

We are issuing and publishing this notice in accordance with sections 751(a)(2)(B) and 777(i)(1) of the Act.

Dated: May 15, 2008.
David M. Spooner,
Assistant Secretary for Import Administration.

Appendix

Comment 1: Qualification as a New Shipper

Comment 2: Bona-Fide Transaction

[FR Doc. E8-11520 Filed 5-21-08; 8:45 am]

BILLING CODE 3510-DR-S